ENVIRONMENTAL PROTECTION AGENCY

[EPA-HQ-OPP-2007-0298; FRL-8507-9]

Agency Information Collection Activities; Submission to OMB for Review and Approval; Comment Request; Certification of Pesticide Applicators; EPA ICR No. 0155.09, OMB Control No. 2070-0029

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before January 17, 2008.

ADDRESSES: Submit your comments, referencing Docket ID No. EPA-HQ-OPP-2007-0298, to (1) EPA online using www.regulations.gov (our preferred method), by e-mail to opp.ncic@epa.gov, or by mail to: OPP Regulatory Public Docket (7502P), Office of Pesticide Programs (OPP), Environmental Protection Agency, 1200 Pennsylvania Ave., NW., Washington, DC 20460-0001, and (2) OMB by mail to: Office of Information and Regulatory Affairs, Office of Management and Budget (OMB), Attention: Desk Officer for EPA, 725 17th Street, NW., Washington, DC 20503.

FOR FURTHER INFORMATION CONTACT: Joseph Hogue, Field and External Affairs Division, Office of Pesticide Programs, (7506P), Environmental Protection Agency, 1200 Pennsylvania Ave., NW., Washington, DC 20460; telephone number: 703-308-9072; fax number: 703-305-5884; e-mail address: hogue.joe@epa.gov.

SUPPLEMENTARY INFORMATION: EPA has submitted the following ICR to OMB for review and approval according to the procedures prescribed in 5 CFR 1320.12. On June 13, 2007 (72 FR 32640), EPA sought comments on this ICR pursuant to 5 CFR 1320.8(d). EPA received no comments. Any additional comments on this ICR should be submitted to EPA and OMB within 30 days of this notice.

EPA has established a public docket for this ICR under Docket ID No. EPA-HQ-OPP-2007-0298, which is available for online viewing at www.regulations.gov, or in person viewing at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, Confidential Business Information (CBI), or other information whose public disclosure is restricted by statute. For further information about the electronic docket, go to www.regulations.gov.

Title: Certification of Pesticide Applicators.

ICR numbers: EPA ICR No. 0155.09, OMB Control No. 2070-0029.

ICR Status: This ICR is scheduled to expire on December 31, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This ICR is designed to provide EPA with the information necessary to oversee training and certification programs for applicators of restricted use pesticides. In addition, it will provide EPA with information on training activities imposed on registrants of pesticide products which assert claims to inactivate bacillus anthracis (anthrax) spores, (referred to as “anthrax-related products”). FIFRA allows the EPA to classify a pesticide as “restricted use” if the pesticide meets certain toxicity or risk criteria. Restricted use pesticides, because of their potential to harm human health or the environment, may be applied only by a certified applicator or by a person under the direct supervision of a certified applicator. A person must meet certain standards of competency to become a certified applicator. States can be delegated the certified applicator program, but it must be approved by the Agency before it can be implemented. In non-participating entities, EPA administers the certification program.

Annual reports from the states are used as a monitoring tool to develop overall data on pesticide activities for OMB, Congress, and others; to distribute EPA grant funds to participating states, to target enforcement activities, and to revise certification and training program emphasis and requirements. An application form is used to obtain vital information from persons applying for Federal certification, such as name and address, and to schedule applicators for Federal certification or re-certification in Navajo Indian Country. Dealer records are necessary to ensure that access to restricted use pesticides is limited to certified applicators. A detailed record of each application of a restricted use pesticide is required for certified commercial applicators. Without these records it would often be difficult to successfully enforce against misuse. The information on registrant training for anthrax-related products will help assure that applications of those products are performed safely, effectively and in accordance with the requirements of federal, state and local authorities. Responses to this ICR are mandatory. The authority for this information collection activity is provided under sections 3(d) and 11 of FIFRA and 40 CFR part 171.

Burden Statement: The annual public reporting and recordkeeping burden for this collection of information is estimated to average 77.4 hours for annual reports by states on their certification and training programs, 0.17 hours for completion of the EPA application form for certified applicators in federal programs, 3.1 hours for record-keeping of restricted use pesticide applications by commercial applicators, 25 hours for training and examination materials by registrants of anthrax-related products, and 18.5 hours for record-keeping of sale, use, and training of applicators of anthrax-related products, per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Pesticide applicators on farms, commercial services applicators, State/Tribal pesticide lead agencies, pesticide dealers, pesticide and other agricultural chemical manufacturers.

Estimated Number of Respondents: 421,095.

Frequency of Response: Annually for State reports; once every 3 years for application for certification/re-certification; on occasion for commercial applicator recordkeeping, and for anthrax-related training materials and recordkeeping.

Estimated Total Annual Hour Burden: 1,309,751.

Estimated Total Annual Labor Cost: $39,703,211.

Changes in the Estimates: The total estimated respondent burden for this renewal ICR reflects a net decrease of 1,617 hours related to 2 small program changes and adjustments to the previous estimate. The significant adjustment increase in the number of responses is primarily due to a change in counting the number of responses verses respondents. The first program change is adoption of the private applicator and dealer recordkeeping programs by the State of Colorado. Colorado already administered the commercial applicator program. The second program change pertains to the new training and recordkeeping burdens that are expected to be imposed on registrants of anthrax-related products via registration terms and conditions.

Dated: December 12, 2007.
Sara Hisel-McCoy,
Director, Collection Strategies Division.

[FR Doc. E7-24512 Filed 12-17-07; 8:45 am]

BILLING CODE 6560-50-P